DEPARTMENT OF AGRICULTURE

Animal and Plant Health Inspection Service

[Docket No. APHIS-2023-0009]

Privacy Act of 1974; System of Records

AGENCY: Animal and Plant Health Inspection Service, USDA.

ACTION: Rescindment of a system of records notice.

SUMMARY: The U.S. Department of Agriculture (USDA, the Department) is issuing a public notice of its intent to rescind an Animal and Plant Health Inspection Service (APHIS) Privacy Act system of records notice, National Animal Health Laboratory Network (NAHLN), USDA/APHIS-5. This system of records notice is rescinded because it has been incorporated into another system of records notice published by the Department.

DATES: The rescindment will become applicable by November 25, 2024.

ADDRESSES: You may submit comments by either of the following methods:

• Federal eRulemaking Portal: Go to http://www.regulations.gov. Enter APHIS-2023-0009 in the Search field. Select the Documents tab, then select the Comment button in the list of documents.

• Postal Mail/Commercial Delivery: Please send one copy of your comment to Docket No. APHIS-2023-0009, Regulatory Analysis and Development, PPD, APHIS, Station 2C-10.16, 4700 River Road Unit 25, Riverdale, MD 20737-1238.

Supporting documents and any comments we receive on this docket may be viewed at http://www.regulations.gov or in our reading room, which is in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Dr. Christina Loiacono, National Animal Health Laboratory Network Coordinator, National Veterinary Services Laboratories, Veterinary Services, APHIS, 1920 Dayton Avenue, Ames, IA 50010; (515) 337-7731; NAHLN@usda.gov.

SUPPLEMENTARY INFORMATION: Pursuant to the provisions of the Privacy Act of 1974, as amended, 5 U.S.C. 552a, the U.S. Department of Agriculture (USDA, the Department) Animal and Plant Health Inspection Service (APHIS) is rescinding the system of records notice, National Animal Health Laboratory Network (NAHLN), USDA/APHIS-5, and removing it from its inventory. This system was used to support activities conducted by the agency and maintain records pursuant to its missions and responsibilities authorized by the Animal Health Protection Act (7 U.S.C. 8301-8317); Public Health Security and Bioterrorism Preparedness and Response Act of 2002 (Pub. L. 107-188); Homeland Security Presidential Directive-7; and Homeland Security Presidential Directive-9.

The purpose of NAHLN was to coordinate and network USDA's National Veterinary Services Laboratories with the capacity, facilities, professional expertise, and support of State and university laboratories. The network provides an extensive infrastructure of facilities, equipment, and personnel that is geographically accessible in the event of an animal health emergency.

The Department is rescinding this system of records because the records previously maintained in the system are now maintained within the system of records titled “Animal Health, Disease, and Pest Surveillance and Management System, USDA/APHIS-15,” which supports APHIS' mission of protecting and improving the health, quality, and marketability of animals within the United States and response to animal health emergencies.

Rescinding the National Animal Health Laboratory Network notice will have no adverse impacts on individuals as the records are covered by and maintained under the Animal Health, Disease, and Pest Surveillance and Management System, USDA/APHIS-15. This notice hereby rescinds the National Animal Health Laboratory Network (NAHLN) system of records notice as identified below.

SYSTEM NAME AND NUMBER:

National Animal Health Laboratory Network (NAHLN), USDA/APHIS-5.

HISTORY:

National Animal Health Laboratory Network (NAHLN), USDA/APHIS-5, was published as a new system on August 18, 2010, in its entirety in the Federal Register (75 FR 50987-50990; Docket No. APHIS-2008-0125). There were no other published modifications.

Done in Washington, DC, this 16th day of October 2024.
Michael Watson,
Administrator, Animal and Plant Health Inspection Service.

[FR Doc. 2024-24740 Filed 10-23-24; 8:45 am]

BILLING CODE 3410-34-P